ENVIRONMENTAL PROTECTION AGENCY

40 CFR Part 272

[FRL-7014-8]

Indiana: Incorporation by Reference of Approved State Hazardous Waste Management Program

AGENCY: Environmental Protection Agency (EPA).

ACTION: Proposed rule.

SUMMARY: The EPA proposes to codify in part 272 of Title 40 of the Code of Federal Regulations (CFR) Indiana's authorized hazardous waste program. EPA will incorporate by reference into the CFR those provisions of the State statutes and regulations that are authorized and federally enforceable. In the “Rules and Regulations” section of this Federal Register, the EPA is codifying and incorporating by reference the State's hazardous waste program as an immediate final rule without prior proposal because EPA views this action as noncontroversial and anticipates no adverse comments. The Agency has explained the reasons for this codification and incorporation by reference in the preamble to the immediate final rule. If EPA does not receive adverse written comments, the immediate final rule will become effective and the Agency will not take further action on this proposal. If EPA receives adverse written comments, EPA will withdraw the immediate final rule and it will not take effect. EPA will then address public comments in a later final rule based on this proposal. EPA may not provide further opportunity for comment. Any parties interested in commenting on this action must do so at this time.

DATES: Written comments must be received on or before November 23, 2001.

ADDRESSES: Mail written comments to Gary Westefer, Indiana Regulatory Specialist, U.S. EPA Region 5, DM-7J, 77 West Jackson Boulevard, Chicago, Illinois 60604, (312) 886-7450.

FOR FURTHER INFORMATION CONTACT: Gary Westefer at the address listed in ADDRESSES and (312) 886-7450.

SUPPLEMENTARY INFORMATION: For additional information, please see the immediate final rule published in the “Rules and Regulations” section of this Federal Register.

Dated: July 3, 2001.
David A. Ullrich,
Acting Regional Administrator, Region 5.

[FR Doc. 01-26683 Filed 10-23-01; 8:45 am]

BILLING CODE 6560-50-P